NUCLEAR REGULATORY COMMISSION

[NRC-2009-0262]

Guidance for Fuel Cycle Facility Change Processes

AGENCY: Nuclear Regulatory Commission.

ACTION: Draft regulatory guide; extension of comment period.

SUMMARY: On July 14, 2011 (76 FR 41527), the U.S. Nuclear Regulatory Commission (NRC or Commission) re-issued Draft Regulatory Guide, DG-3037, “Guidance for Fuel Cycle Facility Change Processes” in the Federal Register for a 30 day public comment period. The NRC is extending the public comment period for DG-3037 from August 12, 2011 to September 16, 2011.

DG-3037 describes the types of changes for fuel cycle facilities for which licensees are to seek prior approval from the NRC. The guidance discusses how licensees can evaluate potential changes to determine whether NRC approval is required before implementing a change. This regulatory guide also describes the level of information that the staff of the NRC considers acceptable for use in documenting and reporting changes made without prior NRC approval.

DATES: Submit comments by September 16, 2011. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2009-0262 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2009-0262. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this regulatory guide using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft regulatory guide is available electronically under ADAMS Accession Number ML110960051.

• Federal Rulemaking Web site: Public comments and supporting materials related to this regulatory guide can be found at http://www.regulations.gov by searching on Docket ID NRC-2009-0262.

FOR FURTHER INFORMATION CONTACT: Kevin Morrissey, U.S. Nuclear Regulatory Commission, Washington, DC 20555-0001, telephone: 301-492-3130, e-mail: Kevin.Morrissey@nrc.gov, or, R. A. Jervey, telephone: 301-251-7404, e-mail: Richard.Jervey@nrc.gov.

SUPPLEMENTARY INFORMATION: On July 14, 2011 (76 FR 41527), the NRC published a notice of issuance and availability of Draft Regulatory Guide DG-3037, “Guidance for Fuel Cycle Facility Change Processes.” By e-mail dated July 7, 2011, the Nuclear Energy Institute (ADAMS Accession No. ML111930008) requested an extension of the stated comment period for the purpose of providing sufficient review while attending planned public meetings related to the subject matter of the proposed guide. It is the desire of the NRC to receive comments of a high quality from all stakeholders. Several factors have been considered in granting an extension. The requested comment period extension is reasonable and does not affect NRC deadlines. The additional time will allow stakeholders to discuss the proposed guide during related meetings. Therefore the comment submittal period is extended from the original date of August 12, 2011 to September 16, 2011.

Dated at Rockville, Maryland, this 13th day of July 2011.
For the Nuclear Regulatory Commission.
Thomas H. Boyce,
Chief, Regulatory Guide Development Branch, Division of Engineering, Office of Nuclear Regulatory Research.

[FR Doc. 2011-18606 Filed 7-21-11; 8:45 am]

BILLING CODE 7590-01-P